NUCLEAR REGULATORY COMMISSION

Sunshine Act Notice

AGENCY: Nuclear Regulatory Commission.

DATES: Weeks of March 15, 22, 29, April 5, 12, 19, 2004.

Place: Commissioners' Conference Room, 11555 Rockville Pike, Rockville, Maryland.

Status: Public and Closed.

Matters to be Considered:

Week of March 15, 2004

There are no meetings scheduled for the Week of March 15, 2004.

Week of March 22, 2004—Tentative

Tuesday, March 23, 2004

1:30 p.m. Briefing on Status of Office of Nuclear Security and Incident Response (NSIR) Programs, Performance, and Plans (Public Meeting) (Contact: Jack Davis, 301-415-7256).

This meeting will be webcast live at the Web address— http://www.nrc.gov.

2:30 p.m. Discussion of Security Issues (Closed—Ex. 1).

Wednesday, March 24, 2004

9:30 a.m. Briefing on Status of Office of Nuclear Reactor Regulation (NRR) Programs, Performance, and Plans (Public Meeting) (Contact: Mike Case, 301-415-1275).

This meeting will be webcast live at the Web address— http://www.nrc.gov.

Week of March 29, 2004—Tentative

There are no meetings scheduled for the Week of March 29, 2004.

Week of April 5, 2004—Tentative

There are no meetings scheduled for the Week of April 5, 2004.

Week of April 12, 2004—Tentative

Tuesday, April 13, 2004

9:30 a.m. Briefing on Status of Office of Nuclear Regulatory Research (RES) Programs, Performance, and Plans (Public Meeting) (Contact: Alan Levin, 301-415-6656).

This meeting will be webcast live at the Web address— http://www.nrc.gov.

Week of April 19, 2004—Tentative

There are no meetings scheduled for the Week of April 19, 2004.

* The schedule for Commission meetings is subject to change on short notice. To verify the status of meetings call (recording)—(301) 415-1292. Contact person for more information: Dave Gamberoni, (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (201-415-1969). In addition, distribution of this meeting notice over the Internet system is available. If you are interested in receiving this Commission meeting schedule electronically, please send an electronic message to dkw@nrc.gov.

Dated: March 11, 2004.
Dave Gamberoni,
Office of the Secretary.

[FR Doc. 04-5969 Filed 3-12-04; 9:42 am]

BILLING CODE 7590-01-M